DEPARTMENT OF TRANSPORTATION

Federal Aviation Administration

14 CFR Part 39

[Docket No. FAA-2015-5819; Directorate Identifier 2015-NM-166-AD; Amendment 39-18336; AD 2015-24-04]

RIN 2120-AA64

Airworthiness Directives; Bombardier, Inc. Airplanes

AGENCY: Federal Aviation Administration (FAA), Department of Transportation (DOT).

ACTION: Final rule; request for comments.

SUMMARY: We are adopting a new airworthiness directive (AD) for certain Bombardier, Inc. Model CL-600-2B19 (Regional Jet Series 100 & 440) airplanes, CL-600-2C10 (Regional Jet Series 700, 701 & 702) airplanes, CL-600-2D15 (Regional Jet Series 705) airplanes, CL-600-2D24 (Regional Jet Series 900) airplanes, and CL-600-2E25 (Regional Jet Series 1000) airplanes. This AD requires repetitive detailed inspections of the cage assembly, window louver panel assemblies (WLPAs), and blowout panels (BOPs), and corrective action if necessary. This AD was prompted by reports of several cases of damaged or detached decompression WLPAs and BOPs. We are issuing this AD to detect and correct damaged and detached WLPAs and BOPs. A detached WLPA or BOP could delay smoke detection in the cargo compartment, and in the event of a cargo compartment fire, this could lead to an uncontrolled cargo compartment fire.

DATES: This AD becomes effective December 15, 2015.

The Director of the Federal Register approved the incorporation by reference of certain publications listed in this AD as of December 15, 2015.

We must receive comments on this AD by January 14, 2016.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this AD, contact Bombardier, Inc., 400 Côte-Vertu Road West, Dorval, Québec H4S 1Y9, Canada; telephone 514-855-5000; fax 514-855-7401; email thd.crj@aero.bombardier.com; Internet http://www.bombardier.com. You may view this referenced service information at the FAA, Transport Airplane Directorate, 1601 Lind Avenue SW., Renton, WA. For information on the availability of this material at the FAA, call 425-227-1221. It is also available on the Internet at http://www.regulations.gov by searching for and locating Docket No. FAA-2015-5819.

Examining the AD Docket

You may examine the AD docket on the Internet at http://www.regulations.gov by searching for and locating Docket No. FAA-2015-5819; or in person at the Docket Operations office between 9 a.m. and 5 p.m., Monday through Friday, except Federal holidays. The AD docket contains this AD, the regulatory evaluation, any comments received, and other information. The street address for the Docket Operations office (telephone 800-647-5527) is in the ADDRESSES section. Comments will be available in the AD docket shortly after receipt.

FOR FURTHER INFORMATION CONTACT: Aziz Ahmed, Aerospace Engineer, Airframe and Mechanical Systems Branch, ANE-171, FAA, New York Aircraft Certification Office (ACO), 1600 Stewart Avenue, Suite 410, Westbury, NY 11590; telephone 516-228-7329; fax 516-794-5531.

SUPPLEMENTARY INFORMATION:

Discussion

Transport Canada Civil Aviation (TCCA), which is the aviation authority for Canada, has issued Canadian Airworthiness Directive CF-2015-28, dated October 21, 2015 (referred to after this as the Mandatory Continuing Airworthiness Information, or “the MCAI”), to correct an unsafe condition for certain Bombardier, Inc Model CL-600-2B19 (Regional Jet Series 100 & 440) airplanes, CL-600-2C10 (Regional Jet Series 700, 701 & 702) airplanes, CL-600-2D15 (Regional Jet Series 705) airplanes, CL-600-2D24 (Regional Jet Series 900) airplanes, and CL-600-2E25 (Regional Jet Series 1000) airplanes. The MCAI states:

Several cases of damaged decompression window louver panel assemblies (WLPAs) have been reported in-service. Subsequent review of in-service data also showed multiple reports of detached blowout panels (BOPs). Damaged or detached WLPAs or BOPs create openings in the cargo compartment.

The presence of unintended openings on the WLPAs and BOPs could delay smoke detection in the cargo compartment. In addition, the cargo compartment may not be able to maintain Halon concentration required for fire suppression. In the event of a cargo compartment fire, this condition could lead to an uncontrolled cargo compartment fire.

This [Canadian] AD mandates the repetitive inspection of the affected WLPAs and BOPs.

Required actions include repetitive detailed inspections for damaged and detached WLPAs and BOPs. Corrective actions include repair. You may examine the MCAI on the Internet at http://www.regulations.gov by searching for and locating Docket No. FAA-2015-5819.

Related Service Information Under 1 CFR Part 51

Bombardier has issued the following service information:

• Bombardier Service Bulletin 601R-25-201, dated July 21, 2015.

• Bombardier Service Bulletin 670BA-25-100, dated July 21, 2015.

The service information describes procedures for repetitive detailed inspections for damage of the cage assembly, WLPAs, and BOPs, and repair and replacement of damaged parts. This service information is reasonably available because the interested parties have access to it through their normal course of business or by the means identified in the ADDRESSES section of this AD.

FAA's Determination and Requirements of This AD

This product has been approved by the aviation authority of another country, and is approved for operation in the United States. Pursuant to our bilateral agreement with the State of Design Authority, we have been notified of the unsafe condition described in the MCAI and service information referenced above. We are issuing this AD because we evaluated all pertinent information and determined the unsafe condition exists and is likely to exist or develop on other products of these same type designs.

FAA's Determination of the Effective Date

An unsafe condition exists that requires the immediate adoption of this AD. The FAA has found that the risk to the flying public justifies waiving notice and comment prior to adoption of this rule because a detached WLPA or BOP could delay smoke detection in the cargo compartment, and in the event of a cargo compartment fire, this could lead to an uncontrolled cargo compartment fire. Therefore, we determined that notice and opportunity for public comment before issuing this AD are impracticable and that good cause exists for making this amendment effective in fewer than 30 days.

Comments Invited

This AD is a final rule that involves requirements affecting flight safety, and we did not precede it by notice and opportunity for public comment. We invite you to send any written relevant data, views, or arguments about this AD. Send your comments to an address listed under the ADDRESSES section. Include “Docket No. FAA-2015-5819; Directorate Identifier 2015-NM-166-AD” at the beginning of your comments. We specifically invite comments on the overall regulatory, economic, environmental, and energy aspects of this AD. We will consider all comments received by the closing date and may amend this AD based on those comments.

We will post all comments we receive, without change, to http://www.regulations.gov, including any personal information you provide. We will also post a report summarizing each substantive verbal contact we receive about this AD.

Costs of Compliance

We estimate that this AD affects 986 airplanes of U.S. registry.

We also estimate that it will take about 2 work-hours per product to comply with the basic requirements of this AD. The average labor rate is $85 per work-hour. Required parts will cost about $0 per product. Based on these figures, we estimate the cost of this AD on U.S. operators to be $167,620, or $170 per product.

We have received no definitive data that would enable us to provide cost estimates for the on-condition actions specified in this AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2015-24-04 Bombardier Inc.: Amendment 39-18336. Docket No. FAA-2015-5819; Directorate Identifier 2015-NM-166-AD.

(a) Effective Date

This AD becomes effective December 15, 2015.

(b) Affected ADs

None.

(c) Applicability

This AD applies to the airplanes, certificated in any category, identified in paragraphs (c)(1) through (c)(5) of this AD, configured with a Class C cargo compartment.

(1) Bombardier, Inc. Model CL-600-2B19 (Regional Jet Series 100 & 440) airplanes, serial numbers (S/Ns) 7003 and subsequent.

(2) Bombardier, Inc. Model CL-600-2C10 (Regional Jet Series 700, 701 & 702) airplanes, S/Ns 10002 and subsequent.

(3) Bombardier, Inc. Model CL-600-2D15 (Regional Jet Series 705) airplanes, S/Ns 15001 and subsequent.

(4) Bombardier, Inc. Model CL-600-2D24 (Regional Jet Series 900) airplanes, S/Ns 15001 and subsequent.

(5) Bombardier, Inc. Model CL-600-2E25 (Regional Jet Series 1000) airplanes, S/Ns 19001 and subsequent.

(d) Subject

Air Transport Association (ATA) of America Code 25, Equipment/Furnishings.

(e) Reason

This AD was prompted by reports of several cases of damaged or detached decompression WLPAs and BOPs. We are issuing this AD to detect and correct damaged and detached WLPAs and BOPs. A detached WLPA or BOP could delay smoke detection in the cargo compartment, and in the event of a cargo compartment fire, this could lead to an uncontrolled cargo compartment fire.

(f) Compliance

Comply with this AD within the compliance times specified, unless already done.

(g) Repetitive Inspections and Repair

Within 100 flight hours after the effective date of this AD, do the actions in paragraph (g)(1) or (g)(2) of this AD, as applicable.

(1) For Model CL-600-2B19 (Regional Jet Series 100 & 440) airplanes: Do a detailed inspection of the cage assembly for damage (including bent and damaged vertical and horizontal guard rails), do a detailed inspection of the WLPAs to detect discrepancies (including dents, bends, and deformations, and inadequate clearances), and do all applicable corrective actions, in accordance with the Accomplishment Instructions of Bombardier Service Bulletin 601R-25-201, dated July 21, 2015, except as required by paragraph (h) of this AD. Do all applicable corrective actions before further flight. Repeat the inspections thereafter at intervals not to exceed 100 flight hours.

(2) For Model CL-600-2C10 (Regional Jet Series 700, 701 & 702) airplanes, CL-600-2D15 (Regional Jet Series 705) airplanes, CL-600-2D24 (Regional Jet Series 900) airplanes, and CL-600-2E25 (Regional Jet Series 1000) airplanes: Do a detailed inspection of the cage assembly to detect damage (including bent or deformed tubing and frame, broken joints), and do a detailed inspection of the WLPAs to detect damage (including bent support pins and louver panels; inadequate clearances; and missing, torn, or unbonded fire blocking fabric and foams), and do a detailed inspection of the BOPs to detect damage (including bends, dents, punctures, and deformations; inadequate sealing tape; and a loose or frayed jumper), and do all applicable corrective actions, in accordance with the Accomplishment Instructions of Bombardier Service Bulletin 670BA-25-100, dated July 21, 2015, except as required by paragraph (h) of this AD. All applicable corrective actions must be done before further flight. Repeat the inspections thereafter at intervals not to exceed 100 flight hours.

(h) Exceptions to Service Information Specifications

Where Bombardier Service Bulletin 601R-25-201, dated July 21, 2015; and Bombardier Service Bulletin 670BA-25-100, dated July 21, 2015, specify to contact Bombardier for disposition of certain conditions, before further flight, repair using a method approved by the Manager, New York ACO, ANE-170, FAA; or Transport Canada Civil Aviation (TCCA); or Bombardier, Inc.'s TCCA Design Approval Organization (DAO).

(i) Other FAA AD Provisions

The following provisions also apply to this AD:

(1) Alternative Methods of Compliance (AMOCs): The Manager, New York Aircraft Certification Office (ACO), ANE-170, FAA, has the authority to approve AMOCs for this AD, if requested using the procedures found in 14 CFR 39.19. In accordance with 14 CFR 39.19, send your request to your principal inspector or local Flight Standards District Office, as appropriate. If sending information directly to the Airframe and Mechanical Systems Branch, send it to ATTN: Program Manager, Continuing Operational Safety, FAA, New York ACO, 1600 Stewart Avenue, Suite 410, Westbury, NY 11590; telephone 516-228-7300; fax 516-794-5531. Before using any approved AMOC, notify your appropriate principal inspector, or lacking a principal inspector, the manager of the local flight standards district office/certificate holding district office. The AMOC approval letter must specifically reference this AD.

(2) Contacting the Manufacturer: For any requirement in this AD to obtain corrective actions from a manufacturer, the action must be accomplished using a method approved by the Manager, New York ACO, ANE-170, FAA; or TCCA; or Bombardier, Inc.'s TCCA DAO. If approved by the DAO, the approval must include the DAO-authorized signature.

(j) Related Information

Refer to Mandatory Continuing Airworthiness Information (MCAI) Canadian Airworthiness Directive CF-2015-28, dated October 21, 2015, for related information. You may examine the MCAI on the Internet at http://www.regulations.gov by searching for and locating Docket No. FAA-2015-5819.

(k) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Bombardier Service Bulletin 601R-25-201, dated July 21, 2015.

(ii) Bombardier Service Bulletin 670BA-25-100, dated July 21, 2015.

(3) For service information identified in this AD, contact Bombardier, Inc., 400 Côte-Vertu Road West, Dorval, Québec H4S 1Y9, Canada; telephone 514-855-5000; fax 514-855-7401; email thd.crj@aero.bombardier.com; Internet http://www.bombardier.com.

(4) You may view this service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on November 19, 2015.
Michael Kaszycki,
Acting Manager, Transport Airplane Directorate, Aircraft Certification Service.

[FR Doc. 2015-30182 Filed 11-27-15; 8:45 am]

BILLING CODE 4910-13-P